DEPARTMENT OF DEFENSE

Department of the Air Force

[Docket ID USAF-2012-0013]

Privacy Act of 1974; System of Records

AGENCY: Department of the Air Force, DoD.

ACTION: Notice to alter a system of records.

SUMMARY: The Department of the Air Force proposes to alter a system of records notice in its existing inventory of records systems subject to the Privacy Act of 1974 (5 U.S.C. 552a), as amended. The blanket (k)(1) exemption applies to this systems of records to accurately describe the basis for exempting disclosure of classified information that is or may be contained in the records.

DATES: This proposed action will be effective on August 27, 2012 unless comments are received which result in a contrary determination.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Charles J. Shedrick, Department of the Air Force Privacy Office, Air Force Privacy Act Office, Office of Warfighting Integration and Chief Information officer, Attn: SAF/CIO A6, 1800 Air Force Pentagon, Washington, DC 20330-1800, or by phone at (202) 404-6575.

SUPPLEMENTARY INFORMATION: The Department of the Air Force's notices for systems of records subject to the Privacy Act of 1974 (5 U.S.C. 552a), as amended, have been published in the Federal Register and are available from the address in FOR FURTHER INFORMATION CONTACT. The proposed systems reports, as required by 5 U.S.C. 552a(r) of the Privacy Act, were submitted on July 10, 2012 to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996, (February 20, 1996, 61 FR 6427).

Dated: July 23, 2012.
Aaron Siegel,
Alternate OSD Federal Register Liaison Officer, Department of Defense.

F036 AF PC F

System Name:

Request for Selective Reenlistment Bonus (SRB) and/or Advance Payment of SRB (June 11, 1997, 62 FR 31793).

Changes:

System Identifier:

Delete entry and replace with “F036 AFPC D”.

System Name:

Delete entry and replace with “Selective Reenlistment Bonus and/or Advance Payment Request.”

* * * * *

System Location:

Delete entry and replace with “Headquarters Air Force Personnel Center, 550 C Street West, Randolph Air Force Base, TX 78150-4712 and at Military Personnel Sections at Air Force Installations. Official mailing addresses are published as an appendix to the Air Force's compilation of system of records.”

Categories of individuals covered by the system:

Delete entry and replace with “Air Force active duty enlisted personnel.”

* * * * *

Authority for maintenance of the system:

Delete entry and replace with “10 U.S.C. 8013, Secretary of Air Force; 37 U.S.C. 308, Special pay: Reenlistment bonus; Air Force Instruction 36-2606, Reenlistment in the United States Air Force; and E.O. 9397 (SSN), as amended.”

Purpose(s):

Delete entry and replace with “To manage advance payment of Selective Reenlistment Bonus monies due to qualifying Air Force enlisted personnel in subsequent fiscal years.”

* * * * *

Storage:

Delete entry and replace with “Maintained electronically or in visible file binders/cabinets.”

Retrievability:

Delete entry and replace with “Retrieved by name and or SSN”.

Safeguards:

Delete entry and replace with “Records are accessed by custodian of the record system and by person(s) responsible for servicing the record system in the performance of their official duties and who are properly screened and cleared for need-to-know. Records are stored electronically or in locked cabinets or rooms. Records are controlled by personnel screening visitor registers, computer system software, and Common Access Card (CAC) access, passwords, and encryption.”

* * * * *

System manager(s) and address:

Delete entry and replace with “Skills Management Branch, (HQ AFPC/DPSOA), Headquarters Air Force Personnel Center, 550 C Street West, Suite 10, Randolph Air Force Base, TX 78150-4712.”

Notification Procedures:

Delete entry and replace with “Individuals seeking to determine whether information about themselves is contained in this system should address written inquiries to the Headquarters Air Force Personnel Center, 550 C Street West, Randolph Air Force Base, TX 78150-4712 and at Military Personnel Sections at Air Force Installations. Official mailing addresses are published as an appendix to the Air Force's compilation of system of records.

For verification purposes, individual should provide their full name, Social Security Number (SSN), any details which may assist in locating records, and their signature.

In addition, the requester must provide a notarized statement or an unsworn declaration made in accordance with 28 U.S.C. 1746, in the following format:

If executed outside the United States:

‘I declare (or certify, verify, or state) under penalty of perjury under the laws of the United States of America that the foregoing is true and correct. Executed on (date). (Signature)'.

If executed within the United States, its territories, possessions, or commonwealths: ‘I declare (or certify, verify, or state) under penalty of perjury that the foregoing is true and correct. Executed on (date). (Signature)'.”

Records Access Procedures:

Delete entry and replace with “Individuals seeking access to information about themselves contained in this system should address written inquiries to the Headquarters Air Force Personnel Center, 550 C Street West, Randolph Air Force Base, TX 78150-4712 and at Military Personnel Sections at Air Force Installations. Official mailing addresses are published as an appendix to the Air Force's compilation of system of records

For verification purposes, individual should provide their full name, Social Security Number (SSN), any details which may assist in locating records, and their signature.

In addition, the requester must provide a notarized statement or an unsworn declaration made in accordance with 28 U.S.C. 1746, in the following format:

If executed outside the United States:

‘I declare (or certify, verify, or state) under penalty of perjury under the laws of the United States of America that the foregoing is true and correct. Executed on (date). (Signature)'.

If executed within the United States, its territories, possessions, or commonwealths: ‘I declare (or certify, verify, or state) under penalty of perjury that the foregoing is true and correct. Executed on (date). (Signature)'.”

Contesting record procedures:

Delete entry and replace with “The Air Force rules for accessing records, and for contesting contents and appealing initial agency determinations are published in Air Force Instruction 33-332, Air Force Privacy Act Program; Member should refer to Air Force Instruction 36-2607, Applicants' Guide to the Air Force Board for Correction of Military Records (AFBCMR) for contesting contents and appealing initial agency under 32 CFR part 806b.”

* * * * *

[FR Doc. 2012-18259 Filed 7-25-12; 8:45 am]

BILLING CODE 5001-06-P